DEPARTMENT OF HEALTH AND HUMAN SERVICES

[Document Identifier: OS-0937-0213]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before March 23, 2026.

ADDRESSES: When commenting, please reference the document identifier/OMB control number 0937-0213-60D and title of collection “Teen Pregnancy Prevention FY2023 performance measures collection.” You may send your comments electronically to Tara Rice, tara.rice@hhs.gov.

FOR FURTHER INFORMATION CONTACT: To obtain copies of supporting material for the proposed collection(s) summarized in this notice, please include the document identifier and project title for reference, and address inquiries to Tara Rice, tara.rice@hhs.gov or 240-453-8123.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Teen Pregnancy Prevention FY2023 performance measures collection.

Type of Collection: extension.

OMB No.: 0937-0213.

Abstract: The Office of Population Affairs (OPA), in the Office of the Assistant Secretary for Health (OASH), U.S. Department of Health and Human Services (HHS), requests an extension clearance for the collection of performance measures specifically for FY2023 Teen Pregnancy Prevention (TPP) Program grantees. OPA supports two types of grants through the TPP program: projects that replicate TPP program models that have been shown to be effective through rigorous evaluation (Tier 1), research and demonstration projects that develop and test additional models and innovative strategies to prevent teen pregnancy (Tier 2). Collection of performance measures is a requirement of all TPP awards and is in the NOFOs. The data collection allows OPA to comply with federal accountability and performance requirements, inform stakeholders of grantee progress in meeting TPP program goals, provide OPA with metrics for monitoring FY2023 TPP grantees, and facilitate individual grantees' continuous quality improvement efforts within their projects.

OPA requests clearance for three years.

Annualized Burden Hour Table
Forms (if necessary) | Respondents (if necessary) | Number of respondents | Number of responses per respondent | Average burden per response (hours) | Total burden hours
TPP Tier 1 & Tier 2 Rigorous Impact grantees | TPP Tier 1 & Tier 2 Rigorous Impact grantees | 73 | 2 | 8 | 1,168
Supportive Services | Tier 1 Grantees | 58 | 2 | 0.25 | 29
Tier 2 Innovation Network | Tier 2 Innovation Network Grantees | 6 | 2 | 1 | 12
Total |  |  |  |  | 1,209

Catherine Howard,
Paperwork Reduction Act Reports Clearance Officer, Office of the Secretary.

[FR Doc. 2026-01136 Filed 1-21-26; 8:45 am]

BILLING CODE 4150-34-P